DEPARTMENT OF DEFENSE

Department of the Navy

Notice of Intent To Grant Exclusive Patent License; NCP Coatings, Inc.

AGENCY: Department of the Navy, DoD.

ACTION: Notice.

SUMMARY: The Department of the Navy hereby gives notice of its intent to grant to NCP Coatings, Inc. a revocable, nonassignable, exclusive license to practice in the field of use of manufacture and sale of single-component moisture-curable coatings for commercial marine, architectural, industrial OEM, and amusement park structural applications to metallic surfaces which require abrasion and oil/grease resistance and for U.S. Government applications in the United States, the Government-owned invention described in U.S. Patent Application No. 14/187,568: Single-Component Moisture-Curable Coatings Based on N-Substituted Urea Polymers with Extended Chains and Terminal Alkoxysilanes, Navy Case No. 102,270 and any continuations, divisionals or re-issues thereof.

DATES: Anyone wishing to object to the grant of this license must file written objections along with supporting evidence, if any, not later than August 15, 2014.

ADDRESSES: Written objections are to be filed with the Naval Research Laboratory, Code 1004, 4555 Overlook Avenue SW., Washington, DC 20375-5320.

FOR FURTHER INFORMATION CONTACT: Rita Manak, Head, Technology Transfer Office, NRL Code 1004, 4555 Overlook Avenue SW., Washington, DC 20375-5320, telephone 202-767-3083. Due to U.S. Postal delays, please fax 202-404-7920, email: rita.manak@nrl.navy.mil or use courier delivery to expedite response.

Authority: 35 U.S.C. 207, 37 CFR Part 404.

Dated: July 25, 2014.
N.A. Hagerty-Ford,
Commander, Office of the Judge Advocate General, U.S. Navy, Federal Register Liaison Officer.

[FR Doc. 2014-18017 Filed 7-30-14; 8:45 am]

BILLING CODE 3810-FF-P